POSTAL SERVICE

39 CFR Part 111

New Standards Prohibit the Mailing of Replica or Inert Munitions

AGENCY: Postal Service ™.

ACTION: Proposed rule.

SUMMARY: The Postal Service is proposing new standards to prohibit the mailing of replica or inert munitions such as grenades or other simulated explosive devices.

DATES: We must receive your comments on or before April 7, 2008.

ADDRESSES: Mail or deliver written comments to the Manager, Mailing Standards, U.S. Postal Service, 475 L'Enfant, Plaza, SW., Room 3436, Washington, DC 20260-3436. You may inspect and photocopy all written comments at USPS Headquarters Library, 475 L'Enfant, Plaza, SW., 11th Floor N, Washington, DC between 9 a.m. and 4 p.m., Monday through Friday.

FOR FURTHER INFORMATION CONTACT: Michael F. Lee, 202-268-7263.

SUPPLEMENTARY INFORMATION: Current Postal Service standards do not prohibit look-alike weapons from the mail. In order to ensure safety of postal employees and prevent damage to postal property or other mailpieces, inert munitions have been handled as “live ammunition” when found in the mail. In the past, facilities have been evacuated when inert replicas have been identified in the mailstream. In 2006, the Postal Service recorded 849 suspicious incidents involving mail that exhibited characteristics of possible explosives. Postal facilities were evacuated on 100 separate occasions due to these occurrences. Postal Inspectors or local emergency first responders reacted to each of these occurrences to assess the items. Evacuations cost the Postal Service time and money, create unnecessary stress for employees, and can impact service commitments.

Most importantly, employee safety can be jeopardized when facsimiles of potentially dangerous items are permitted in the mail. Both real and replica explosives have been found in the mail and the replicas often are not readily distinguishable from the real articles. The Postal Service is concerned that without prohibition of these types of mail pieces, continued exposure to replicated munitions, over time, will lead to desensitized reactions should an employee encounter items in the mail that should be regarded as dangerous.

This proposed rule is part of our ongoing commitment to increase the safety of the mail and provide a safe working environment for our employees.

Although we are exempt from the notice and comment requirements of the Administrative Procedure Act [5 U.S.C. of 553(b), (c)] regarding proposed rulemaking by 39 U.S.C. 410(a), the Postal Service invites public comment on the following proposed revisions to Mailing Standards of the United States Postal Service, Domestic Mail Manual (DMM), incorporated in the Code of Federal Regulations. See 39 CFR 111.1.

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, 3633 and 5001.

2. Revise the following sections of Mailing Standards of the United States Postal Service, Domestic Mail Manual (DMM) as follows:

* * * * *

600 Basic Standards for All Mailing Services

601 Mailability

* * * * *

11.0 Other Restricted and Nonmailable Matter

* * * * *

[Renumber current 11.5 through 11.20 as 11.6 through 11.21. Insert new 11.5 to read as follows:]

11.5 Replica or Inert Munitions

Replica or inert munitions that bear a realistic appearance, such as simulated grenades or other simulated explosive devices, are not permitted in the mail.

* * * * *

We will publish an appropriate amendment to 39 CFR part 111 to reflect these changes if the proposal is adopted.

Neva R. Watson,
Attorney, Legislative.

[FR Doc. E8-4459 Filed 3-6-08; 8:45 am]

BILLING CODE 7710-12-P